DEPARTMENT OF ENERGY

Federal Energy Regulatory Commission

[Docket Nos. ER10-1401-000; ER10-1559-000; ER11-2256-000; ER11-3149-000]

California Independent System Operator Corporation; Notice of FERC Staff Attendance

The Federal Energy Regulatory Commission (Commission) hereby gives notice that on the following dates members of its staff will participate in teleconferences and meetings to be conducted by the California Independent System Operator (CAISO). The agenda and other documents for the teleconferences and meetings are available on the CAISO's Web site, http://www.caiso.com.

May 17, 2011, Systems Interface User Group, Department of Market Monitoring 2010, Market Monitoring Report, Bidding and Mitigation of Commitment Costs

May 18, 2011, Board of Governors Meeting, Settlements and Market Clearing User Group, Congestion Revenue Rights

May 19, 2011, Market Update, Board of Governors Meeting, Settlement Process Timeline Change, CA Transmission Planning Group Call

May 20, 2011, Congestion Revenue Rights Enhancements, Transmission Planning Standards

May 24, 2011, Systems Interface User Group, BPM Change Management

May 25, 2011, Settlements and Market Clearing User Group, Congestion Revenue Rights

May 31, 2011, Systems Interface User Group, Settlement Quality Meter Data

Sponsored by the CAISO, the teleconferences and meetings are open to all market participants, and staff's attendance is part of the Commission's ongoing outreach efforts. The teleconferences and meetings may discuss matters at issue in the above captioned dockets.

For further information, contact Saeed Farrokhpay at saeed.farrokhpay@ferc.gov; (916) 294-0322 or Maury Kruth at maury.kruth@ferc.gov, (916) 294-0275.

Dated: May 16, 2011.
Kimberly D. Bose,
Secretary.

[FR Doc. 2011-12427 Filed 5-19-11; 8:45 am]

BILLING CODE 6717-01-P